NATIONAL SCIENCE FOUNDATION

Special Emphasis Panel in Advanced Computational Infrastructure and Research; Notice of Meeting

In accordance with the Federal Advisory Committee Act (Pub. L. 92-463, as amended), the National Science Foundation announces the following meeting:

Name: Special Emphasis Panel in Advanced Computational Infrastructure & Research (1185)

Date and Time: April 19, 2000—8:30 a.m.-5 p.m.

Place: Rm. 1150, NSF, 4201 Wilson Boulevard, Arlington, VA.

Type of Meeting: Closed

Contact Person: Dr. Stephen Elbert, Program Director, Partnerships for Advanced Computational Infrastructure Program, Directorate for Computer and Information Science and Engineering, Room 1122, National Science Foundation, 4201 Wilson Boulevard, Arlington, VA 22230, (703) 306-1963.

Purpose of Meeting: To provide recommendations and advice concerning TeraScale Proposals submitted to NSF for funding.

Agenda: To review and evaluate TeraScale Proposals as part of the selection process for awards.

Reason for Closing: The proposals being reviewed include information of a proprietary or confidential nature, including technical information; financial data, such as salaries; and personal information concerning individuals associated with the proposals. If discussions are open to the public, these matters that are exempt under 5 U.S.C. 552b(c), (4) and (6) of the Government in the Sunshine Act would be improperly disclosed.

Dated: April 6, 2000.
Karen J. York,
Committee Management Officer.

[FR Doc. 00-9199 Filed 4-12-00; 8:45 am]

BILLING CODE 7555-01-M